DEPARTMENT OF LABOR

Employment and Training Administration

[TA-W-60,032]

Ford Motor Company Product Development; Dearborn, MI; Notice of Termination of Investigation

Pursuant to Section 221 of the Trade Act of 1974, as amended, an investigation was initiated on September 7, 2006 in response to a petition filed on behalf of workers at Ford Motor Company, Product Development, Dearborn, Michigan.

The petitioners have requested that the petition be withdrawn. Consequently, the investigation has been terminated.

Signed at Washington, DC, this 14th day of September, 2006.
Linda G. Poole,
Certifying Officer, Division of Trade Adjustment Assistance.

[FR Doc. E6-15747 Filed 9-25-06; 8:45 am]

BILLING CODE 4510-30-P